DEPARTMENT OF TRANSPORTATION

Maritime Administration

[Docket No. MARAD-2025-1125]

Request for Comments on the Renewal of a Previously Approved Information Collection: MARAD Exercise Breakout Survey

AGENCY: Maritime Administration (MARAD), U.S. Department of Transportation (DOT).

ACTION: Notice.

SUMMARY: MARAD invites public comments on its intention to request Office of Management and Budget (OMB) approval to renew an information collection in accordance with the Paperwork Reduction Act of 1995. The proposed collection OMB 2133-0550 titled MARAD Exercise Breakout Survey is being renamed “MARAD Mariner Preparedness Exercise Survey (Mariner PrepEx Survey)” to reflect the new name of the exercise program, which includes this survey. Since the last renewal, survey questions 1 and 2 are being updated to include additional modes of communication that may be restricted. There was also an increase in the totals for respondents, responses, and burden hours. MARAD is required to publish this notice in the Federal Register to obtain comments from the public and affected agencies.

ADDRESSES: Written comments and recommendations for the proposed information collections should be sent within 30 days of publication of this notice to www.reginfo.gov/public/do/ PRAMain. Find this particular information collection by selecting “Currently under 30-day Review—Open for Public Comments” or by using the search function.

FOR FURTHER INFORMATION CONTACT: Michael DaPonte, 202-366-7627, Division of Sealift Operations and Emergency Response (MAR-612), Maritime Administration, 1200 New Jersey Avenue SE, Washington, DC 20590, Email: michael.daponte@dot.gov.

SUPPLEMENTARY INFORMATION:

Title: MARAD Mariner Preparedness Exercise Survey (Mariner PrepEx Survey).

OMB Control Number: 2133-0550.

Type of Request: Extension with change of a currently approved information collection.

Abstract: The Mariner PrepEx Survey is a component of MARAD's Mariner Preparedness Exercise Program. The survey will be conducted on a voluntary basis and provide vital information to the Ready Reserve Force (RRF) program. Periodic surveying is necessary in view of the dynamics that affect the RRF program, which include changes in the RRF fleet composition, readiness status, ship location, as well as changes to the seafaring manpower base. The survey is an integral part of the Mariner Preparedness Exercise Program and is designed to gauge mariner's training and military experience levels, willingness to participate in time of national need, and awareness of working in a contested environment.

Respondents: Merchant Mariners.

Affected Public: Individuals and households.

Estimated Number of Respondents: 1,750.

Estimated Number of Responses: 1,750.

Estimated Hours per Response: 0.0833 (5 minutes).

Annual Estimated Total Annual Burden Hours: 145.83/146 hours.

Frequency of Response: Once Annually.

A 60-day Federal Register Notice soliciting comments on this information collection was published on October 2, 2025, (FR 47899, Vol. 90, No. 189). The posting received one non-substantive comment commending the minor changes to the survey and recommending a reduction of the reported public burden to ensure participation in the survey. In response, MARAD clarified that total respondents and burden hours were increased to reflect the potential expansion of the RRF fleet, which will require more mariners and crew aboard additional vessels. However, the total time taken to complete the survey (i.e., five (5) minutes) remains low to encourage maximum participation in the survey.

Authority: The Paperwork Reduction Act of 1995; 44 U.S.C. Chapter 35, as amended; and 49 CFR 1.49.

By Order of the Maritime Administration.
Gabriel Chavez,
Secretary, Maritime Administration.

[FR Doc. 2025-23726 Filed 12-22-25; 8:45 am]

BILLING CODE 4910-81-P